DEPARTMENT OF THE INTERIOR

Bureau of Land Management

[PO #4820000251; Order #02412-014-004-047181.0]

Notice of Intent To Amend the Resource Management Plan for the Robinson Summit Substation Expansion and 525kV Interconnection Project and Prepare an Associated Environmental Assessment

AGENCY: Bureau of Land Management, Interior.

ACTION: Notice of intent.

SUMMARY: In compliance with the National Environmental Policy Act of 1969, as amended (NEPA), and the Federal Land Policy and Management Act of 1976, as amended (FLPMA), the Bureau of Land Management (BLM, we) Nevada State Director intends to prepare a resource management plan (RMP) amendment with an associated environmental assessment (EA) for the Robinson Summit Substation Expansion and 525 kV Interconnection Project (Project). This notice is announcing the beginning of the scoping period to solicit public comments and identify issues and alternatives. It is also providing the planning criteria for public review.

DATES: The BLM requests that the public submit comments concerning the scope of the analysis, potential alternatives, and identification of relevant information and studies. We must receive your comments by June 20, 2025 or 15 days after the last public meeting, whichever is later. This will afford us the opportunity to consider all the issues that you raise in the draft RMP amendment/EA. The date and time of the scoping meeting will be announced at least 15 days in advance through a news release, social media, and the BLM's National NEPA Register website at https://eplanning.blm.gov/eplanning-ui/admin/project/2038325/510.

ADDRESSES: You may submit comments on issues, alternatives, and planning criteria related to the Project and proposed RMP amendment by any of the following methods:

• Website: https://eplanning.bblm.gov/eplanning-ui/admin/project/2038325/510

• Mail: 702 North Industrial Way, Ely, NV 89301

Documents pertinent to this proposal may be examined online at https://eplanning.blm.gov/eplanning-ui/admin/project/2038325/510 and at the Ely District Office.

FOR FURTHER INFORMATION CONTACT: Tiera Hooper, Deputy District Manager, Ely, by telephone, (775) 289-1803; mail, 702 North Industrial Way, Ely, NV 89301; or email, thooper@blm.gov. Contact Greg Gresh by email at ggresh@blm.gov to have your name added to our mailing list. Individuals in the United States who are deaf, deafblind, hard of hearing, or have a speech disability may dial 711 (TTY, TDD, or TeleBraille) to access telecommunications relay services for contacting Ms. Hooper. Individuals outside the United States should use the relay services offered within their country to make international calls to the point-of-contact in the United States.

SUPPLEMENTARY INFORMATION: This document provides notice that the BLM Nevada State Director intends to prepare an RMP amendment with an associated EA for the Project, announces the beginning of the scoping process, and seeks public input on issues, alternatives, and planning criteria. The RMP amendment is being considered to allow the BLM to evaluate the proposed designation of a utility corridor, which would require amending the existing 2008 Ely District Record of Decision and Approved Resource Management Plan (2008 Ely District RMP), as amended. The RMP amendment and proposed utility corridor are necessary to resolve conformance issues related to Greater Sage-Grouse adaptive management strategies under the 2015 Record of Decision and Nevada and Northeastern California Greater Sage-Grouse Approved Resource Management Plan Amendment in the planning area.

The planning area is located in White Pine County, Nevada, and encompasses approximately 307 acres of public land. The Project would include: (a) the construction, operation, and maintenance of an approximately 50-acre expansion of the existing Robinson Summit Substation (Expansion); (b) the construction, operation and maintenance of a new 1.3-mile, single circuit 525 kV alternating current transmission line connecting to the east side of Robinson Summit Substation via a new 200-foot right-of-way (ROW); and, (c) a new access road that would be approximately 20 feet wide with 2-foot berms on each side (Interconnection). Additionally, the BLM would amend the 2008 Ely District RMP, as amended, to establish a designated utility corridor between the Expansion and Interconnection locations. The scope of this land use planning process does not include addressing the evaluation or designation of Area of Critical Environmental Concern (ACEC) and the BLM is not considering ACEC nominations as part of this process.

Purpose and Need

The BLM's purpose is to respond to the applicant's ROW application for: (1) The construction, operation and maintenance of an approximately 50-acre expansion of the existing Robinson Summit Substation; (2) construction, operation and maintenance of a new 1.3-mile, single circuit 525 kV alternating current transmission line connecting to the east side of Robinson Summit Substation via a new 200-foot ROW; and, (3) construction of a new access road that would be approximately 20 feet wide with 2-foot berms on each side. The BLM's purpose is also to amend the 2008 Ely District RMP to establish a designated utility corridor between the Expansion and Interconnection locations.

The BLM's need for action is to consider a use of public land to advance energy generation and transmission consistent with the BLM's multiple-use mandate and section 501(a)(4) of FLPMA, 43 U.S.C. 1761(a)(4). Additionally, a land use plan amendment to designate a right-of-way corridor would ensure collocation of rights-of-way to minimize environmental impacts and address conformance issues associated with the proposed Project consistent with section 503 of FLPMA, 43 U.S.C. 1763.

Preliminary Alternatives

The BLM is currently considering the proposed Action and a no action alternative. The proposed action includes the potential RMP amendment, which would designate a utility corridor and amend resource decisions and allocations in the 2008 Ely District RMP within the proposed utility corridor boundary. The BLM welcomes comments on the preliminary alternatives as well as suggestions for additional alternatives.

Planning Criteria

The planning criteria guides the planning effort and lays the groundwork for effective analysis by identifying the preliminary issues and their analytical frameworks. Preliminary issues for the planning area have been identified by BLM personnel and from early engagement conducted for this planning effort with Federal, State, and local agencies, Tribes, and other stakeholders. The BLM has identified several preliminary issues for this planning effort. The planning criteria are available for public review and comment at the ePlanning website (see ADDRESSES).

Public Scoping Process

This notice of intent initiates the scoping period and public review of the issues, preliminary alternatives, and planning criteria, which guide the development and analysis of the RMP amendment and EA.

The BLM will be holding one public scoping meeting in Ely, Nevada. The date(s) and location(s) of any additional scoping meetings will be announced at least 15 days in advance through a news release, social media, and the BLM's National NEPA Register website at https://eplanning.blm.gov/eplanning-ui/admin/project/2038325/510.

Interdisciplinary Team

The BLM will use an interdisciplinary approach to develop the plan in order to consider the variety of resource issues and concerns identified. Specialists with expertise in the following disciplines will be involved in this planning effort: rangeland management, minerals and geology, outdoor recreation, archaeology, paleontology, wildlife and fisheries, Greater Sage-Grouse, lands and realty, hydrology, and soils.

Additional Information

The BLM will utilize and coordinate the NEPA and land use planning processes to evaluate this proposed Project and planning effort to help support compliance with applicable procedural requirements under the Endangered Species Act (16 U.S.C. 1536) and section 106 of the National Historic Preservation Act (54 U.S.C. 306108) as provided in 36 CFR 800.2(d)(3), including the public involvement requirements of section 106. The information about historic and cultural resources and threatened and endangered species within the area potentially affected by the proposed plan will assist the BLM in identifying and evaluating impacts to such resources.

The BLM will consult with Indian Tribal Nations on a government-to-government basis in accordance with Executive Order 13175, BLM Manual 1780, and other Departmental policies. Tribal concerns, including impacts on Indian trust assets and potential impacts to cultural resources, will be given due consideration. Federal, State, and local agencies, along with Indian Tribal Nations and other stakeholders that may be interested in or affected by the proposed Robinson Summit Substation Expansion and 525 kV Interconnection Project that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 42 U.S.C. 4321-4347, 43 CFR 46.435, and 43 CFR 1610.2)

Kimberly Prill,
Acting State Director.

[FR Doc. 2025-08949 Filed 5-19-25; 8:45 am]

BILLING CODE 4331-21-P